DEPARTMENT OF HEALTH AND HUMAN SERVICES

National Institutes of Health

Center for Scientific Review: Amended Notice of Meeting

Notice is hereby given of a change in the meeting of the Center for Scientific Review Special Emphasis Panel,

November 8, 2017, 2:00 p.m. to November 8, 2017, 4:00 p.m., National Institutes of Health, 6701 Rockledge Drive, Bethesda, MD, 20892 which was published in the Federal Register on October 18, 2017, 82 FR 48522-48523.

The meeting will be held on November 7, 2017. The meeting time and location remain the same. The meeting is closed to the public.

Dated: November 2, 2017.
Melanie J. Pantoja,
Program Analyst, Office of Federal Advisory Committee Policy.

[FR Doc. 2017-24264 Filed 11-7-17; 8:45 am]

BILLING CODE 4140-01-P